DEPARTMENT OF LABOR

Employment and Training Administration

[TA-W-71,840A]

Willstaff Staffing Agency, Willstaff Crystal, Inc., and MDS Industrial Resources, Inc., Working On-Site at Tyler Pipe Company, Waterworks Division, South Plant; Tyler, TX; Amended Certification Regarding Eligibility To Apply for Worker Adjustment Assistance

In accordance with Section 223 of the Trade Act of 1974, as amended (“Act”), 19 U.S.C. 2273, the Department of Labor issued a Certification of Eligibility to Apply for Worker Adjustment Assistance on October 13, 2009, applicable to workers of Willstaff Staffing Agency and MDS Industrial Resources, Inc., working on-site at Tyler Pipe Company, Waterworks Division, South Plant, Tyler, Texas. The notice was published in the Federal Register on December 11, 2009 (74 FR 65798).

At the request of the State Agency, the Department reviewed the certification for workers of the subject firm. The workers are engaged in activities related to the production of cast-iron water pipes.

Information indicates that workers leased from Willstaff Staffing Agency working on-site at Tyler Pipe Co., Waterworks Division, South Plant, Tyler, Texas had their wages reported under a separate unemployment insurance (UI) tax account under the name Willstaff Crystal, Inc.

Accordingly, the Department is amending this certification to properly reflect this matter.

The intent of the Department's certification is to include all workers of the subject firm who were adversely affected by imports of cast-iron water pipes.

The amended notice applicable to TA-W-71,840A is hereby issued as follows:

All workers of Willstaff Staffing Agency, Willstaff Crystal, Inc., and MDS Industrial Resources, Inc., working on-site at Tyler Pipe Company, Waterworks Division, South Plant, Tyler, Texas (TA-W-71,840A), who became totally or partially separated from employment on or after July 28, 2008, through October 13, 2011, and all workers in the group threatened with total or partial separation from employment on the date of certification through two years from the date of certification, are eligible to apply for adjustment assistance under Chapter 2 of Title II of the Trade Act of 1974, as amended.

Signed in Washington, DC, this 15th day of March, 2010.
Elliott S. Kushner,
Certifying Officer, Division of Trade Adjustment Assistance.

[FR Doc. 2010-7328 Filed 3-31-10; 8:45 am]

BILLING CODE 4510-FN-P